NATIONAL FOUNDATION FOR THE ARTS AND THE HUMANITIES

National Endowment for the Arts; National Council on the Arts 142nd Meeting

Pursuant to section 10(a)(2) of the Federal Advisory Committee Act (Public Law 92-463), as amended, notice is hereby given that a meeting of the National Council on the Arts will be held on March 9, 2001 from 9:00 a.m.-3:30 p.m. in Room M-09 at the Nancy Hanks Center, 1100 Pennsylvania Avenue, NW, Washington, D.C. 20506.

The meeting will be open to the public on a space available basis. Following opening remarks and announcements, there will be Congressional and budget updates and a guest presentation by folklorist Barre Toelken of Utah State University. This will be followed by presentations on three aspects of cultural heritage. Presenters will be: Barbara Horgan (George Balanchine Trust), Aaron Flagg (jazz trumpeter, Juilliard School), and Mary Louise Defender-Wilson (Native American storyteller). The meeting will also include presentations on international cultural heritage by Christine Vincent (Ford Foundation's artist collaboration initiative) and James Bau Graves (Center for Cultural Exchange/Portland, ME). Other topics will include: Application Review for Access, Education, Heritage/Preservation, National Heritage Fellowships, and Leadership Initiatives; review of Guidelines for Partnerships, National Heritage Fellowships, American Jazz Masters Fellowships, Folk Infrastructure Initiative, and Arts on Radio and Television; and general discussion.

If, in the course of discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW, Washington, D.C. 20506, 202/682-5532, TTY-TDD 202/682-5429, at least seven (7) days prior to the meeting.

Further information with reference to this meeting can be obtained from the Office of Communications, National Endowment for the Arts, Washington, D.C. 20506, at 202/682-5570.

Dated: February 20, 2001.
Kathy Plowitz-Worden,
Panel Coordinator, Office of Guidelines and Panel Operations.

[FR Doc. 01-4558 Filed 2-23-01; 8:45 am]

BILLING CODE 7537-01-P